DEPARTMENT OF THE INTERIOR

National Park Service

Notice of Inventory Completion for Native American Human Remains and Associated Funerary Objects in the Possession of the Colorado Historical Society, Denver, CO

AGENCY: National Park Service, Interior.

ACTION: Notice.

Notice is hereby given in accordance with provisions of the Native American Graves Protection and Repatriation Act (NAGPRA), 43 CFR 10.9, of the completion of an inventory of human remains and associated funerary objects in the possession of the Colorado Historical Society, Denver, CO.

This notice is published as part of the National Park Service's administrative responsibilities under NAGPRA, 43 CFR 10.2(c). The determinations within this notice are the sole responsibility of the museum, institution, or Federal agency that has control of these Native American human remains. The National Park Service is not responsible for the determinations within this notice.

A detailed assessment of the human remains was made by Colorado Historical Society professional staff in consultation with representatives of the Arapahoe Tribe of the Wind River Reservation, Wyoming; Cheyenne-Arapaho Tribes of Oklahoma; Comanche Indian Tribe, Oklahoma; Fort Sill Apache Tribe of Oklahoma; Kiowa Indian Tribe of Oklahoma; Northern Cheyenne Tribe of the Northern Cheyenne Indian Reservation, Montana; Oglala Sioux Tribe of the Pine Ridge Reservation, South Dakota; Pawnee Nation of Oklahoma; Rosebud Sioux Tribe of the Rosebud Indian Reservation, South Dakota; Southern Ute Indian Tribe of the Southern Ute Reservation, Colorado; Three Affiliated Tribes of the Fort Berthold Reservation, North Dakota; Ute Indian Tribe of the Uintah & Ouray Reservation, Utah; and Ute Mountain Tribe of the Ute Mountain Reservation, Colorado, New Mexico & Utah. The following tribes were invited, but have been unable to participate in consultations: the Apache Tribe of Oklahoma; Jicarilla Apache Tribe of the Jicarilla Apache Indian Reservation, New Mexico; Mescalero Apache Tribe of the Mescalero Reservation, New Mexico, Shoshone Tribe of the Wind River Reservation, Wyoming; and Wichita and Affiliated Tribes (Wichita, Keechi, Waco & Tawakonie), Oklahoma.

In October 1955, human remains representing a minimum of four individuals were removed from the eroded ground surface of site 5LN32, on private land near Boyero, Lincoln County, CO. No known individuals were identified. The 133 associated funerary objects are a one awl fragment and 132 bone beads and bead fragments. Additional associated funerary objects from this burial were described in “Notice of Inventory Completion for Native American Human Remains and Associated Funerary Objects in the Possession of the University of Denver Department of Anthropology and Museums of Anthropolicy, Denver CO,” published in the Federal Register on April 10, 2001 (see Volume 66, Number 69, pages 18654-56). In accordance with provisions of NAGPRA, 43 CFR 10.10(b)(2), the University of Denver responded to a repatrisan claim by the Pawnee Nation of Oklahoma. The claim requested that control of the associated funerary objects be transferred to the Pawnee Nation of Oklahoma, and that termporary custody of the associated funeral objects be transferred to Colorado Historical Society. These requests were fulfilled, respectively, on December 31, 2001, and on January 24, 2002.

Maurice Frink and Willena D. Cartwright of the Colorado Historical Society and Dr. Arnold Withers of the University of Denver Department of Anthropology excavated the site. According to the original site records, the remains were excavated from a burial pit exposed by weathering. Associated funerary objects, archeological context, and mortuary patterns indicate that the site dates from approximately the Early Ceramic period (circa A.D. 1000-1000, also known as Plains Woodland) to the Middle Ceramic period (circa A.D. 1000-1500). The preponderance of the evidence, including archeology, oral traditions presented during consultations with the tribes listed above, expert opinion, and new evidence provided by the Pawnee Nation of Oklahoma in their repartriation request of October 30, 2001, indicates that a relationship of shared group identity can be reasonably traced between these human remains and associated funerary objects and the Pawnee Nation of Oklahoma.

In May 1993, human remains representing one individual were removed from site 5LR1683, the Roberts Ranch burial, or Office of Archaeology and Historic Preservation (OAHP) Burial Number 75, on private land near Livermore, Larimer County, CO. No known individual was identified. The 404 associated funerary objects are 2 shell pendants, 110 shell disk beads, 235 bone beads, 2 grinding slabs, 12 pieces of debitage, 2 chipped stone scrapers, 36 juniper seed beads, and 5 Olivella sp. shell beads.

After discovery, OAHP staff excavated the burial under a State of Colorado archeological permit. Radiocarbon dates from the site range from A.D. 320 to 540. Style of funerary objects, manner of interment, and radiocarbon dates indicate that the burial dates to the Early Ceramic period (crica A.D. 100-1000). The preponderance of the evidence, including archeology, oral traditions presented during consultations with the tribes listed above, expert opinion, and new evidence provided by the Pawnee Nation of Oklahoma in their repatriation request of October 30, 2001, indicates that a relationship of shared group identify can be reasonably traced between these human remains and associated funerary objects and the Pawnee Nation of Oklahoma.

In May 1994 and May 1996, human remains representing a minimum of two individuals were removed from site 5JF223, the Magic Mountain site, or OAHP Burial Number 166, on municipal land in Golden, Jefferson County, CO. No known individuals were identified. No associated funerary objects are present.

The remains were excavated by staff of Centennial Archaeology, Inc., during a planned excavation of the site under a State of Colorado archeological permit. Both individuals were contextually associated with the Early Ceramic period occupational component of the site, which dates approximately A.D. 200 to 1000. The preponderance of the evidence, including archeology, oral traditions presented during consultations with the tribes listed above, expert opinion, and new evidence provided by the Pawnee Nation of Oklahoma in their repatriation request of October 30, 2001, indicates that a relationship of shared group identity can be reasonably traced between these human remains and the Pawnee Nation of Oklahoma.

In July 1998, human remains representing a minimum of two individuals were removed from site 5JF1780, the Lena Gulch site, or OAHP Burial Number 150, during highway construction of Colorado highway C-470 on state lands near Golden, Jefferson County, CO. No known individuals were identified. The 369 associated funerary objects include 75 chipped stone artifacts (including 11 corner-notched projectile points), 2 ground cobbles, 203 stone disk beads, 4 nuggets of raw copper, 14 cord-marked pottery sherds, 4 bone awls, 22 bone beads, 2 shell pendants, 2 shell beads, 1 unmodified shell, and approximately 40 unmodified rabbit incisors apparently representing an ornamental object.

Colorado Department of Transportation archeologists conducted excavations of the inadvertent discoveries under a State of Colorado archeological permit. The remains were removed from primary interment contexts disturbed by construction activity. Contextual evidence indicates that the two individuals were interred at or near the same time. Diagnostic artifacts and radiocarbon dates (A.D. 599 to 768) indicate that the burials date to the Early Ceramic period. The preponderance of the evidence, including archeology, oral traditions presented during consultations with the tribes listed above, expert opinion, and new evidence provided by the Pawnee Nation of Oklahoma in their repatriation request of October 30, 2001, indicates that a relationship of shared group identity can be reasonably traced between these human remains and associated funerary objects and the Pawnee Nation of Oklahoma.

In September 1998, human remains representing a minimum of one individual were removed from site 5WL2614, or OAHP Burial Number 154, during excavations associated with pipeline construction on private land in Weld County, CO. No known individual was identified. No associated funerary objects are present.

After discovery, the site was excavated under a State of Colorado archeological permit by Metcalf Archaeological Consultants. The human remains were sent to Dr. Diane France of Colorado State University for analysis. The method of interment indicates that this was a primary interment. Radiocarbon dates for the site (A.D. 580 to 770) indicate that the burial dates to the Early Ceramic period. Artifacts associated with the burial and method of interment are consistent with Early Ceramic period mortuary contexts along the Rocky Mountain Front Range. The preponderance of the evidence, including archeology, oral traditions presenting during consultations with the tribes listed above, expert opinion, and new evidence provided by the Pawnee Nation of Oklahoma in their repatriation request of October 30, 2001, indicates that a relationship of shared group identity can be reasonably traced between these human remains and the Pawnee Nation of Oklahoma.

In 1995, at the time that Colorado Historical Society was completing its NAGPRA inventory, and in 1996 and 1998 for human remains discovered on State and private lands, officials of Colorado Historical Society determined that, pursuant to 43 CFR 10.2(d)(1), the above-mentioned human remains represent 10 individuals of Native American ancestry. At the time, officials of Colorado Historical Society also determined that according to the definition of cultural affiliation provided under 43 CFR 10.2(e), there was not sufficient evidence to trace a relationship of shared group identity between the human remains and associated funerary objects and any present-day Native American tribe or Native Hawaiian organization. The Colorado Historical Society provided an inventory of these culturally unidentifiable human remains and associated funerary objects to the Department Consulting Archeologist as required under 43 CFR 10.9(e)(6).

Through ongoing consultations with Native American tribes, along with information presented by tribal experts and scholars during a NAGPRA consultation project in partnership with the Colorado Commission of Indian Affairs and tribes in October 2000 in Denver, CO, and information presented by the Pawnee Nation in their October 30, 2001, repatriation request, the Colorado Historical Society received additional evidence regarding cultural affiliation of these human remains and associated funerary objects.

Based on the above-mentioned information, officials of the Colorado Historical Society have determined that, pursuant to 43 CFR 10.2(d)(1), the human remains listed above represent the physical remains of 10 individuals of Native American ancestry. Officials of the Colorado Historical Society also have determined that, pursuant to 43 CFR 10.2(d)(2), the 906 objects listed above are reasonably believed to have been placed with or near individual human remains at the time of death or later as part of the death rite or ceremony. Lastly, officials of the Colorado Historical Society have determined that, pursuant to 43 CFR 10.2(e), and in accordance with 25 U.S.C. 3005(a)(4), there is a relationship of shared group identity that can be reasonably traced between these Native American human remains and associated funerary objects and the Pawnee Nation of Oklahoma.

This notice has been sent to officials of the Apache Tribe of Oklahoma; Arapahoe Tribe of the Wind River Reservation, Wyoming; Assiniboine and Sioux Tribes of the Fort Peck Indian Reservation, Montana; Cheyenne-Arapaho Tribes of Oklahoma; Cheyenne River Sioux Tribe of the Cheyenne River Reservation, South Dakota; Comanche Indian Tribe, Oklahoma; Crow Creek Sioux Tribe of the Crow Creek Reservation, South Dakota; Crow Tribe of Montana; Flandreau Santee Sioux Tribe of South Dakota; Fort Sill Apache Tribe of Oklahoma; Jicarilla Apache Tribe of the Jicarilla Apache Indian Reservation, New Mexico; Kiowa Indian Tribe of Oklahoma; Lower Brule Sioux Tribe of the Lower Brule Reservation, South Dakota; Lower Sioux Indian Community of Minnesota Midewakanton Sioux Indians of the Lower Sioux Reservation in Minnesota; Mescalero Apache Tribe of the Mescalero Reservation, New Mexico; Northern Cheyenne Tribe of the Northern Cheyenne Indian Reservation, Montana; Oglala Sioux Tribe of the Pine Ridge Reservation, South Dakota; Pawnee Nation of Oklahoma; Prairie Island Indian Community of Minnesota Midewakanton Sioux Indians of the Prairie Island Reservation, Minnesota; Rosebud Sioux Tribe of the Rosebud Indian Reservation, South Dakota; Santee Sioux Tribe of the Santee Reservation of Nebraska; Shakopee Midewakanton Sioux Community of Minnesota (Prior Lake); Shoshone-Bannock Tribes of the Fort Hall Reservation of Idaho; Shoshone Tribe of the Wind River Reservation, Wyoming; Sisseton-Wahpeton Sioux Tribe of the Lake Traverse Reservation, South Dakota; Southern Ute Indian Tribe of the Southern Ute Reservation, Colorado; Spirit Lake Tribe, North Dakota (formerly known as the Devils Lake Sioux Tribe); Standing Rock Sioux Tribe of North and South Dakota; Three Affiliated Tribes of the Fort Berthold Reservation, North Dakota; Upper Sioux Indian Community of the Upper Sioux Reservation, Minnesota; Ute Indian Tribe of the Uintah & Ouray Reservation, Utah; Ute Mountain Tribe of the Ute Mountain Reservation, Colorado, New Mexico & Utah; Wichita and Affiliated Tribes (Wichita, Keechi, Waco & Tawakonie), Oklahoma; and Yankton Sioux Tribe of South Dakota. Representatives of any other Indian tribe that believes itself to be culturally affiliated with these human remains and associated funerary objects should contact Anne W. Bond, Director of Collections and Exhibitions, Colorado Historical Society, 1300 Broadway, Denver, CO 80203-2137, telephone (303) 866-4691, before August 12, 2002. Repatriation of these human remains and associated funerary objects to the Pawnee Nation of Oklahoma may begin after that date if no additional claimants come forward.

Dated: June 6, 2002.
Robert Stearns,
Manager, National NAGPRA Program.

[FR Doc. 02-17427 Filed 7-10-02; 8:45 am]

BILLING CODE 4310-70-M